DEPARTMENT OF THE INTERIOR

Minerals Management Service

Notice and Agenda for Meeting of the Royalty Policy Committee of the Minerals Management Advisory Board

AGENCY: Minerals Management Service, Interior.

ACTION: Notice of meeting.

SUMMARY: The Secretary of the Department of the Interior has established a Royalty Policy Committee (Committee) on the Minerals Management Advisory Board to provide advice on our management of Federal and Indian minerals leases, revenues, and other minerals related policies. Committee membership includes representatives from States, Indian Tribes and allottee organizations, minerals industry associations, the general public, and Federal departments.

At this twelfth meeting, the Committee will consider minority and majority reports on Sodium/Potassium draft valuation regulations and reports from the Coal and Accounting Relief for Marginal Properties subcommittees. The Minerals Management Service (MMS) will present reports on offshore Gulf of Mexico activities, program reengineering, and the Wyoming Royalty-In-Kind Pilot Evaluation. Guest presenters will discuss the new Administration's priorities and pending energy related legislation.

DATES: The meeting will be held on: Tuesday, March 27, 2001, 8:30 a.m. to 5:00 p.m., Central Standard Time.

ADDRESSES: The meeting will be held at the Sheraton New Orleans Hotel, 500 Canal Street, New Orleans, Louisiana 70130, telephone number, (504) 525-2500.

FOR FURTHER INFORMATION CONTACT: Gary L. Fields, Royalty Policy Committee Coordinator, Minerals Revenue Management, Minerals Management Service, P.O. Box 25165, MS 300B3, Denver, CO 80225-0165, telephone number (303) 231-3102, fax number (303) 231-3781, e-mail gary.fields@mms.gov.

SUPPLEMENTARY INFORMATION: The location and dates of future meetings will be published in the Federal Register and posted on our Internet site at http://www.mrm.mms.gov//Laws_R_D/RoyPC/RoyPC.htm. The meetings will be open to the public without advanced registration on a space available basis. The public may make statements during the meetings, to the extent time permits, and file written statements with the Committee for its consideration.

Written statements should be submitted to Gary L. Fields at the e-mail or mailing address listed in the FOR FURTHER INFORMATION CONTACT section. Transcripts of Committee meetings will be available two weeks after each meeting for public inspection and copying at MMS's Minerals Revenue Management, Building No. 85, Denver Federal Center, Denver, Colorado. Meeting minutes will be posted on our Internet site at http://www.mrm.mms.gov//Laws_R_D/RoyPC/RoyPC.htm about one month after the meeting.

These meetings are conducted under the authority of the Federal Advisory Committee Act (Pub. L. 92-463, 5 U.S.C. appendix 1) and Office of Management and Budget (Circular No. A-63, revised).

Dated: February 16, 2001.
Lucy Querques Denett,
Associate Director for Minerals Revenue Management.

[FR Doc. 01-4831 Filed 2-27-01; 8:45 am]

BILLING CODE 4310-MR-P